DEPARTMENT OF ENERGY

Federal Energy Regulatory Commission

[Project No. 176-018]

City of Escondido and Vista Irrigation District; Notice of Settlement Agreement and Updated Application and Solicitation of Comments

January 29, 2009.

Take notice that the following hydroelectric application has been updated and filed with the Commission and is available for public inspection.

a. Type of Application: Settlement Agreement and Updated License Application for a New Major License.

b. Project No.: 176-018.

c. Date Filed: December 15, 2008.

d. Applicant: City of Escondido and Vista Irrigation District.

e. Name of Project: Escondido Hydroelectric Project.

f. Location: On the San Luis Rey River in San Diego County, near Escondido, California. The project occupies 290 acres of Federal lands under the jurisdiction of the U.S. Forest Service and the U.S. Bureau of Land Management. The project also occupies 66 acres of Indian Reservation lands owned by the La Jolla, San Pasqual, and Rincon Indian tribes.

g. Applicant Contacts:

Lori Vereker, Utilities Director, City of Escondido, Civic Center Plaza, 210 North Broadway, Escondido, CA 92025;

Don A. Smith, Director of Water Resources, Vista Irrigation District, 1391 Engineer Street, Vista, CA 92081, (207) 945-5621.

h. FERC Contact: Emily Carter, (202) 502-6512 or Emily.Carter@ferc.gov.

i. Deadline for filing comments: March 2, 2009. Reply comments due: March 17, 2009.

All documents (original and eight copies) should be filed with: Kimberly D. Bose, Secretary, Federal Energy Regulatory Commission, 888 First Street, NE., Washington, DC 20426.

Additional study requests and requests for cooperating agency status may be filed electronically via the Internet, in lieu of paper. The Commission strongly encourages electronic filings. See 18 CFR 385.2001(a)(1)(iii) and the instructions on the Commission's Web site (http://www.ferc.gov) under the “e-Filing” link.

j. This updated application is not ready for environmental analysis at this time.

k. The existing 1.5 MW Escondido project consists of: (1) Two storage reservoirs (Lake Henshaw on San Luis Rey River and Lake Wohlford on Escondido Creek) with a combined storage capacity of approximately 58,000 acre-feet; (2) one well-field (Warner Ranch) that augments flow into Lake Henshaw; (3) one diversion dam on the San Luis Rey River; (3) four primary water conduits (Upper Escondido Canal—5.93 miles; Rincon Penstock—0.4 mile; Lower Escondido Canal—7.72 miles; and Wohlford Penstock—0.76 mile); (4) two powerhouses (Bear Valley powerhouse and Rincon powerhouse; (5) public recreation facilities at Lake Henshaw and Lake Wohlford; and (6) appurtenant facilities and features. The Escondido project extends from Lake Henshaw at an elevation of about 2,700 feet to Bear Valley Powerhouse at an elevation of 750 feet. The Escondido canal currently consists of approximately 58,404 feet of gunite lined canal; 3,567 feet of tunnel; 670 feet of metal flume; 2,156 feet of inverted siphon; and 6,118 feet of pipeline.

In the revised application, the applicant proposes to remove the Warner Ranch well-field, the Rincon Penstock, and the Rincon powerhouse from the project.

l. A copy of the updated application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

m. With this notice, we are re-initiating consultation with the California State Historic Preservation Officer (SHPO), as required by section 106 of the National Historic Preservation Act, and the regulations of the Advisory Council on Historic Preservation, 36, CFR 800.4.

Kimberly D. Bose,
Secretary.

[FR Doc. E9-2519 Filed 2-5-09; 8:45 am]

BILLING CODE 6717-01-P